DEPARTMENT OF ENERGY

Federal Energy Regulatory Commission

[Docket No. CP00-55-000]

Distrigas of Massachusetts Corporation; Notice of Availability of the Environmental Assessment for the Proposed DOMAC LNG Plant Modifications Project

March 29, 2000.

The staff of the Federal Energy Regulatory Commission (FERC or Commission) has prepared this environmental assessment (EA) on the modification of existing facilities proposed by Distrigas of Massachusetts Corporation (DOMAC) in the above-referenced docket.

The EA was prepared to satisfy the requirements of the National Environmental Policy Act. The staff concludes that approval of the proposed project would not constitute a major Federal action significantly affecting the quality of the human environment.

The EA assesses the potential environmental effects of the proposed modification, construction, and operation at an existing liquefied natural gas (LNG) storage facility. The proposed project would allow DOMAC to establish a mutually beneficial thermal energy exchange arrangement between its LNG Plant and the Island End Cogeneration Project (Power Project) and to supply 66,000 MMBtu per day of regasified LNG to the Power Project. The proposed modifications would include:

• Installation of a closed-loop hot and cold water thermal energy transfer system consisting of piping, a warm water storage tank, water-to-water heat exchangers, and five water pumps;

• Substitution of existing low, medium, and high pressure vaporizers with equivalent capacity shell-and-tube hot water heat exchangers compatible with the thermal energy transfer system;

• Minor LNG Plant modifications necessary to meter and connect the Power Project's fuel supply line to the LNG Plant; and

• Installation of a new utility water supply system to serve both the LNG Plant and the Power Project.

The EA has been placed in the public files of the FERC. A limited number of copies of the EA are available for distribution and public inspection at: Federal Energy Regulatory Commission, Public Reference and Files Maintenance Branch, 888 First Street, NE., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow the instructions to ensure that your comments are received in time and properly recorded.

• Send two copies of your comments to: Secretary, Federal Energy Regulatory Commission, 888 First Street, NE, Room 1A, Washington, DC 20426;

• Label one copy of the comments for the attention of Gas Group I, PJ-11.1;

• Reference Docket No. CP00-55-000; and

• Mail your comments so that they will be received in Washington, DC on or before May 1, 2000.

Comments will be considered by the Commission but will not serve to make the commentor a party to the proceeding. Any person seeking to become a party to the proceeding must file a motion to intervene pursuant to Rule 214 of the Commission's Rules of Practice and Procedures (18 CFR 385.214).

The date for filing timely motions to intervene in this proceeding has passed. Therefore, parties now seeking to file late interventions must show good cause, as required by section 395.214(b)(3), why this time limitation should be waived. Environmental issues have been viewed as good cause for late intervention. You do not need intervenor status to have your environmental comments considered.

Additional information about the proposed project is available from Mr. Paul McKee of the Commission's Office of External Affairs at (202) 208-1088 or on the FERC website (www.ferc.fed.us) using the “RIMS” link to information in this docket number. Click on the “RIMS” link, to select “Docket #” from the RIMS Menu, and follow the instructions. For assistance with access to RIMS, the RIMS helpline can be reached at (202) 208-2222.

Similarly, the “CHIPS” link on the FERC Internet website provides access to the texts of formal documents issued by the Commission, such as orders, notices, and rulemakings. From the FERC Internet website, click on the “CIPS” link, select “Docket #” from the CIPS menu, and follow the instructions. For assistance with access to CIPS, the CIPs helpline can be reached at (202) 208-2474.

Linwood A. Watson, Jr.,
Acting Secretary.

[FR Doc. 00-8273 Filed 4-3-00; 8:45 am]

BILLING CODE 6717-01-M